DEPARTMENT OF DEFENSE

Department of the Navy

Notice of Availability of Invention for Licensing; Government-Owned Invention

AGENCY: Department of the Navy, DoD.

ACTION: Notice.

SUMMARY: The invention listed below is assigned to the United States Government as represented by the Secretary of the Navy and is available for licensing by the Department of the Navy (DoN). The following patent application is available for licensing: U.S. Patent Application No. 14/978,040 entitled “Mixed Odor Delivery Device (MODD)”, Navy Case No. 103,340 and any continuations, divisionals or re-issues thereof.

ADDRESSES: Requests for copies of the invention cited should be directed to the Naval Research Laboratory, Code 1004, 4555 Overlook Avenue SW., Washington, DC 20375-5320 and must include the Navy Case number.

FOR FURTHER INFORMATION CONTACT: U.S. Naval Research Laboratory (NRL), Technology Transfer Office, 4555 Overlook Avenue SW., Washington, DC 20375-5320, telephone 202-767-3083 or email: techtran@research.nrl.navy.mil or use courier delivery to expedite response.

SUPPLEMENTARY INFORMATION: The DoN intends to move expeditiously to license this invention. Potential licensees are required to submit a license application and commercialization plan. The license application is available online at: https://www.nrl.navy.mil/techtransfer/for-inventors-and-industry/license-agreements. Commercialization plans and completed applications must be submitted to NRL for evaluation by March 15, 2017, with final negotiations and awards occurring during the months of March-May, 2017. The DoN, in its decisions concerning the granting of licenses, will give special consideration to small business firms and consortia involving small business firms. The DoN intends to ensure that its licensed invention is commercialized throughout the United States.

(Authority: 35 U.S.C. 207, 37 CFR Part 404.)

Dated: January 30, 2017.
A.M. Nichols,
Lieutenant Commander, Judge Advocate General's Corps, U.S. Navy, Federal Register Liaison Officer.

[FR Doc. 2017-02295 Filed 2-2-17; 8:45 am]

BILLING CODE 3810-FF-P